DEPARTMENT OF STATE

[Public Notice #3796]

Overseas Buildings Operations; Industry Advisory Panel: Notice of Establishment

The Department of State is establishing an Industry Advisory Panel to serve the Director/Chief Operating Officer and staff of Overseas Buildings Operations in an advisory capacity with respect to industry and academia's latest concepts, methods, best practices, and ideas related to property management and oversight of the Department's real property assets at U.S. missions overseas. The objective is to ensure the most efficient processes and optimal solutions are utilized. The Panel will advise with respect to areas such as research and development, design, construction, the environment, seismic issues, emergency operations, security, planning and development, and banking and finance. The Under Secretary for Management has determined that the Committee is necessary and in the public interest.

The Director of Overseas Buildings Operations will appoint members that represent a cross-section of interested and qualified professionals with significant, relevant experience and diverse opinions. The Panel will follow the procedures prescribed by the Federal Advisory Committee Act (FACA).

Meetings will be open to the public, unless a determination is made in accordance with section 10(d) of FACA (Pub. L. 92-463) that a meeting or a portion of the meeting should be closed to the public. Notice of each Panel meeting will be provided in the Federal Register at least 15 days prior to the meeting date.

FOR FURTHER INFORMATION CONTACT: Sandra J. Piech, 703-516-1968.

Dated: October 3, 2001.
Charles E. Williams,
Director/Chief Operating Officer, Overseas Buildings Operations, Department of State.

[FR Doc. 01-26906 Filed 10-24-01; 8:45 am]

BILLING CODE 4710-24-P